DEPARTMENT OF THE INTERIOR

Fish and Wildlife Service

[Docket No. FWS-HQ-MB-2017-0028; FF09M21200-178-FXMB1231099BPP0]

RIN 1018-BB73

Migratory Bird Hunting; Service Regulations Committee Meeting

AGENCY: Fish and Wildlife Service, Interior.

ACTION: Notice of meeting.

SUMMARY: The U.S. Fish and Wildlife Service (hereinafter Service) will conduct an open meeting in June 2017 to identify and discuss preliminary issues concerning the 2018-19 migratory bird hunting regulations.

DATES: The meeting will be held June 21, 2017. The meeting will commence at approximately 11:00 a.m. and is open to the public.

ADDRESSES: The Service Regulations Committee meeting will be in the Rachel Carson conference room at 5275 Leesburg Pike, Falls Church, Virginia 22041.

FOR FURTHER INFORMATION CONTACT: Ron W. Kokel, U.S. Fish and Wildlife Service, Department of the Interior, MS: MB, 5275 Leesburg Pike, Falls Church, VA 22041-3803; (703) 358-1967.

SUPPLEMENTARY INFORMATION: Under the authority of the Migratory Bird Treaty Act (16 U.S.C. 703-712), the Service regulates the hunting of migratory game birds. We update the migratory game bird hunting regulations, located in title 50 of the Code of Federal Regulations in part 20, annually. Through these regulations, we establish the frameworks, or outside limits, for season lengths, bag limits, and areas for migratory game bird hunting. To help us in this process, we have administratively divided the nation into four Flyways (Atlantic, Mississippi, Central, and Pacific), each of which has a Flyway Council. Representatives from the Service, the Service's Migratory Bird Regulations Committee, and Flyway Council Consultants will meet on June 21, 2017, at 11:00 a.m. to identify preliminary issues concerning the 2018-19 migratory bird hunting regulations for discussion and review by the Flyway Councils at their August and September meetings.

In accordance with Department of the Interior (hereinafter Department) policy regarding meetings of the Service Regulations Committee attended by any person outside the Department, these meetings are open to public observation. The Service is committed to providing access to this meeting for all participants. Please direct all requests for sign language interpreting services, closed captioning, or other accommodation needs to the person listed under FOR FURTHER INFORMATION CONTACT, TTY 800-877-8339, with your request by close of business on June 14, 2017.

Dated: May 15, 2017.
Jerome Ford,
Assistant Director, Migratory Birds, U.S. Fish and Wildlife Service.

[FR Doc. 2017-12384 Filed 6-14-17; 8:45 am]

BILLING CODE 4333-15-P